Title 3—

The President

Memorandum of October 26, 2018

Delegation of Authority Under Section 1069 of the National Defense Authorization Act for Fiscal Year 2019

Memorandum for the Secretary of State[,] the Secretary of Defense[,] the Attorney General[,] the Secretary of Homeland Security[,] the Director of the Office of Management and Budget[,] the Director of National Intelligence[,] the Director of the Central Intelligence Agency[, and] the Director of the Federal Bureau of Investigation

By the authority vested in me as President by the Constitution and the laws of the United States of America, including section 301 of title 3, United States Code, I hereby delegate to the Secretary of Defense, in consultation with the Secretary of State, the Attorney General, the Secretary of Homeland Security, the Director of the Office of Management and Budget, the Director of National Intelligence, the Director of the Central Intelligence Agency, and the Director of the Federal Bureau of Investigation, the authority to provide the appropriate report on the effects of cyber-enabled information operations on the national security of the United States to the Congress as required by section 1069 of the National Defense Authorization Act for Fiscal Year 2019 (Public Law 115-232).

The delegation in this memorandum shall apply to any provision of any future public law that is the same or substantially the same as the provision referenced in this memorandum.

The Secretary of Defense is authorized and directed to publish this memorandum in the Federal Register.

THE WHITE HOUSE,

Washington, October 26, 2018

[FR Doc. 2018-23971

Filed 10-30-18; 11:15 am]

Billing code 5001-06-P